DEPARTMENT OF ENERGY

Agency Information Collection Extension

AGENCY: U.S. Department of Energy.

ACTION: Notice and request for comments.

SUMMARY: The Department of Energy (DOE), pursuant to the Paperwork Reduction Act of 1995, invites public comment on a three year extension to a collection of information that DOE is developing for submission to the Office of Management and Budget (OMB). Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before February 17, 2015. If you anticipate difficulty in submitting comments within that period, please contact Janet N. Freimuth, as listed below, as soon as possible.

ADDRESSES: Written comments may be sent to Janet N. Freimuth, HG-6, Acting Director, Office of Conflict Prevention and Resolution, U.S. Department of Energy, 1000 Independence Avenue SW., Washington, DC 20585; or by fax at 202-287-1415 or by email at janet.freimuth@hq.doe.gov.

FOR FURTHER INFORMATION CONTACT: Requests for additional information or copies of the information collection instrument and instructions should be directed to Janet Freimuth at the address listed in ADDRESSES.

SUPPLEMENTARY INFORMATION: This information collection request contains: (1) OMB No. 1910-5118; (2) Information Collection Request Title: “Technology Partnerships Ombudsman Reporting Requirements”; (3) Type of Review: Renewal; (4) Purpose: The information collected will be used to determine whether the Technology Partnerships Ombudsmen are properly helping to resolve complaints from outside organizations regarding laboratory policies and actions with respect to technology partnerships; (5) Annual Estimated Number of Respondents: 22; (6) Annual Estimated Number of Total Responses: 88; (7) Annual Estimated Number of Burden Hours: 50; (8) Annual Estimated Reporting and Recordkeeping Cost Burden: $ 2,500. The cost burden is based on an average hourly rate of $ 50 per hour. We expect no start up or maintenance costs.

Statutory Authority: Section 11 of the Technology Transfer Commercialization Act of 2000, Public Law 106-404, codified at 42 U.S.C. 7261c(c)(3)(C).

Issued in Washington, DC, on December 15, 2014.
Janet N. Freimuth,
Acting Director, Office of Conflict Prevention and Resolution, Office of Hearings and Appeals.

[FR Doc. 2014-29737 Filed 12-18-14; 8:45 am]

BILLING CODE 6450-01-P